DEPARTMENT OF HOUSING AND URBAN DEVELOPMENT

[Docket No. FR-5118-N-05]

Notice of Proposed Information Collection: Comment Request; Brownfields Economic Development Initiative (BEDI) Grant Application

AGENCY: Office of Community Planning and Development, HUD.

ACTION: Notice.

SUMMARY: The proposed information collection requirement described below will be submitted to the Office of Management and Budget (OMB) for review, as required by the Paperwork Reduction Act. The Department is soliciting public comments on the subject proposal.

DATES: Comments Due Date: November 19, 2007.

ADDRESSES: Interested persons are invited to submit comments regarding this proposal. Comments should refer to the proposal by name and/or OMB Control Number and should be sent to: Lillian L. Deitzer, Departmental Reports Management Officer, QDAM, Department of Housing and Urban Development, 451 Seventh Street, SW., Room 4176, Washington, DC 20410; telephone: 202-708-2374, (this is not a toll-free number) or e-mail Ms. Deitzer at Lillian_L._Deitzer@HUD.gov for a copy of the proposed form and other available information.

FOR FURTHER INFORMATION CONTACT: David Kaminsky, Brownfields Program Coordinator, Grants Management Division, Office of Community Planning and Development, Department of Housing and Urban Development, 451 Seventh Street, SW., Washington, DC 20410; telephone 202-708-4091 (this is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Brownfields Economic Development Initiative (BEDI) Grant Application.

OMB Control Number, if applicable: 2506-0153.

Description of the need for the information and proposed use: This information collection is required to rate and rank applications submitted as part of a funding competition and to ensure funding eligibility of applicant activities. Respondents are units of general local government eligible for Section 108 Loan Guarantees under 42 U.S.C. 5308.

Agency form numbers, if applicable: HUD-40123, HUD-40122.

Members of Affected Public: Local Government.

Estimation of the total number of hours needed to prepare the information collection including number of respondents, frequency of response, and hours of response:

Frequency of Submission: Annually.

| Number of respondents | Annual responses | × | Hours per response | = | Burden hours
Reporting Burden | 50 | 1 |  | 40 |  | 2,000

Total Estimated Burden Hours: 2,000.

Status of the proposed information collection: Extension of a currently approved collection.

Authority: Section 3506 of the Paperwork Reduction Act of 1995, 44 U.S.C. Chapter 35, as amended.

Dated: September 11, 2007.
Nelson R. Bregón,
General Deputy Assistant Secretary for Community Planning and Development.

[FR Doc. E7-18311 Filed 9-17-07; 8:45 am]

BILLING CODE 4210-67-P